DEPARTMENT OF THE TREASURY

United States Mint

Establish Pricing and Pricing Changes for 2019 United States Mint Numismatic Products

AGENCY: United States Mint, Department of the Treasury.

ACTION: Notice.

SUMMARY: The United States Mint is establishing a price for a new United States Mint numismatic product in accordance with the table below:

Product | 2019 Retail price
United States Mint Explore and Discover Coin SetTM | $19.95

FOR FURTHER INFORMATION CONTACT: Kara Murphy Haire, Marketing Specialist, Numismatic and Bullion Directorate; United States Mint; 801 9th Street NW; Washington, DC 20220; or call 202-354-7871.

Authority: 31 U.S.C. 5111, 5112, 5132 & 9701.

Dated: March 22, 2019.
David J. Ryder,
Director, United States Mint.

[FR Doc. 2019-05882 Filed 3-26-19; 8:45 am]

BILLING CODE P